GOVERNMENT PRINTING OFFICE

Depository Library Council to the Public Printer; Meeting

The Depository Library Council to the Public Printer (DLC) will meet on Monday, October 19, 2009, through Wednesday, October 21, 2009, at Doubletree Hotel Crystal City, located at Arlington, Virginia. The sessions will take place from 8 a.m. to 5:30 p.m. on Monday through Tuesday, and Wednesday, 8 a.m. to 12 p.m. The meeting will be held at the Doubletree Hotel Crystal City, 300 Army Navy Drive, Arlington, Virginia. The purpose of this meeting is to discuss the Federal Depository Library Program. All sessions are open to the public. The sleeping rooms available at the Doubletree Hotel Crystal City will be at the Government rate of $229.00 (plus applicable state and local taxes, currently 10.25%) a night for a single or double for $249.00. The Doubletree Hotel Crystal City is in compliance with the requirements of Title III of the Americans With Disabilities Act and meets all Fire Safety Act regulations.

Robert C. Tapella,
Public Printer of the United States.

[FR Doc. E9-25296 Filed 10-19-09; 8:45 am]

BILLING CODE 1520-01-P